DEPARTMENT OF TRANSPORTATION

National Highway Traffic Safety Administration

49 CFR Parts 571 and 585

[Docket No. NHTSA-2024-0089]

RIN 2127-AL20

Federal Motor Vehicle Safety Standards; Child Restraint Systems, Child Restraint Anchorage Systems; Incorporation by Reference

AGENCY: National Highway Traffic Safety Administration (NHTSA), Department of Transportation (DOT).

ACTION: Final rule; delay of effective date.

SUMMARY: This document delays until March 20, 2025, the effective date of the January 7, 2025, final rule that amends Federal Motor Vehicle Safety Standard (FMVSS) No. 225; Child restraint systems, and FMVSS No. 213b; Child restraint systems.

DATES: The effective date of the final rule amending 49 CFR parts 571 and 585, published January 7, 2025, at 90 FR 1288, is delayed until March 20, 2025. The incorporation by reference approval of certain material listed in the rule by the Director of the Federal Register is delayed until March 20, 2025.

ADDRESSES: Correspondence related to this rule should refer to the docket number set forth above (NHTSA-2024-0089) and be submitted to regulations.gov or to the Administrator, National Highway Traffic Safety Administration, 1200 New Jersey Avenue SE, Washington, DC 20590.

FOR FURTHER INFORMATION CONTACT: For technical issues: Ms. Cristina Echemendia, Office of Crashworthiness Standards, Telephone: (202) 366-6345, Facsimile: (202) 366-7002. For legal issues: Ms. Natasha Reed, Office of the Chief Counsel, Telephone: (202) 366-2992, Facsimile: (202) 366-3820. The mailing address for these officials is: National Highway Traffic Safety Administration, 1200 New Jersey Avenue SE, Washington, DC 20590.

SUPPLEMENTARY INFORMATION: In accordance with the memorandum of January 20, 2025, from the President to executive departments and agencies, entitled “Regulatory Freeze Pending Review,” ¹ this action temporarily delays until March 20, 2025, the effective date of the rule entitled “Federal Motor Vehicle Safety Standards; Child Restraint Systems, Child Restraint Anchorage Systems, Incorporation by Reference,” published in the Federal Register on January 7, 2025, at 90 FR 1288. That rule amended FMVSS No. 225 and 213b to improve the ease-of-use of child restraint anchorage systems.

¹ Available at https://www.whitehouse.gov/presidential-actions/2025/01/regulatory-freeze-pending-review/ (last accessed Feb. 3, 2025).

This action is exempt from notice and comment under 5 U.S.C. 553 and is effective immediately upon publication in the Federal Register, based on the good cause exceptions in 5 U.S.C. 553(b)(B) and 553(d)(3), respectively. Seeking public comment is impracticable, unnecessary, and contrary to the public interest. The temporary delay in effective date is necessary to give Department officials the opportunity for further review and consideration of new regulations, consistent with the President's memorandum of January 20, 2025. Given the imminence of the effective date, seeking prior public comment on this temporary delay would have been impractical, as well as contrary to the public interest in the orderly promulgation and implementation of regulations. The imminence of the effective date is also good cause for making this action effective immediately upon publication in the Federal Register.

Issued in Washington, DC, under authority delegated in 49 CFR 1.95 and 501.5.
Peter Simshauser,
Chief Counsel.

[FR Doc. 2025-02583 Filed 2-13-25; 8:45 am]

BILLING CODE P